DEPARTMENT OF HOUSING AND URBAN DEVELOPMENT

[Docket No. FR-5328-N-03]

Final Fair Market Rents for the Housing Choice Voucher Program and Moderate Rehabilitation Single Room Occupancy Program for Fiscal Year 2010; Revised

AGENCY: Office of the Secretary, HUD.

ACTION: Notice of Final Fair Market Rents (FMRs) for Fiscal Year 2010, Update.

SUMMARY: This notice updates the FMRs for Reno-Sparks, NV, and Ward County, ND, based on Random Digit Dialing (RDD) surveys conducted in October and November 2009.

DATES: Effective Date: March 11, 2010.

FOR FURTHER INFORMATION CONTACT: For technical information on the methodology used to develop FMRs or a listing of all FMRs, please call the HUD USER information line at (800) 245-2691 or access the information on the HUD Web site, http://www.huduser.org/datasets/fmr.html. FMRs are listed at the 40th or 50th percentile in Schedule B. For informational purposes, a table of 40th percentile recent mover rents for those areas currently at the 50th percentile FMRs will be provided on the same website noted above. Any questions related to use of FMRs or voucher payment standards should be directed to the respective local HUD program staff. Questions on how to conduct FMR surveys or further methodological explanations may be addressed to Marie L. Lihn or Lynn A. Rodgers, Economic and Market Analysis Division, Office of Economic Affairs, Office of Policy Development and Research, telephone (202) 708-0590. Persons with hearing or speech impairments may access this number through TTY by calling the toll-free Federal Information Relay Service at (800) 877-8339. (Other than the HUD USER information line and TTY numbers, telephone numbers are not toll-free.)

SUPPLEMENTARY INFORMATION: As the result of comments submitted in response to HUD's notice of proposed Fair Market Rents published on August 4, 2009 (74 FR 38716), HUD conducted Random Digit Dialing (RDD) surveys for the following FMR areas: Reno-Sparks, NV Metropolitan Statistical Area (MSA), and Ward County, ND. These RDD surveys began in October 2009 and were completed in November 2009. The RDD survey for Reno-Sparks, NV, indicated a significant decline in the FMR, while there was a significant increase indicated by the RDD survey for Ward County, ND. Both areas were having significant problems administering the Housing Choice Voucher program at the then current FY2009 FMRs, and anticipated continued difficulty under the proposed FY2010 FMRs. As a result, HUD is revising these FMRs as published on September 30, 2009 (74 FR 50552), effective immediately.

The FMRs for the two affected areas are revised as follows:

2010 Fair Market Rent Area | FMR by Number of Bedrooms in Unit: 0 BR | FMR by Number of Bedrooms in Unit: 1 BR | FMR by Number of Bedrooms in Unit: 2 BR | FMR by Number of Bedrooms in Unit: 3 BR | FMR by Number of Bedrooms in Unit: 4 BR
Reno-Sparks, NV MSA | $577 | $690 | $853 | $1,239 | $1,498
Ward County, ND | $425 | $512 | $631 | $872 | $1,035

Dated: March 4, 2010
Raphael W. Bostic,
Assistant Secretary for Policy Development and Research.

[FR Doc. 2010-5168 Filed 3-10-10; 8:45 am]

BILLING CODE 4210-67-P